DEPARTMENT OF TRANSPORTATION

[Docket No. FAA-2009-0671]

Agency Requests for Renewal of a Previously Approved Information Collection(s): Safety Management Systems for Part 121 Certificate Holders

AGENCY: Federal Aviation Administration, (FAA)(DOT).

ACTION: Notice and request for comments.

SUMMARY: The DOT invites public comments about our intention to request the Office of Management and Budget (OMB) approval to renew an information collection used to support the analysis of safety data as part of a Safety Management System required for part 121 Certificate Holders. The information to be collected will be used to identify hazards and show compliance with part 5, Safety Management Systems. All collected data and records are maintained by the certificate holder and not submitted to the FAA. We are required to publish this notice in the Federal Register by the Paperwork Reduction Act of 1995.

DATES: Written comments should be submitted by August 20, 2018.

ADDRESSES: You may submit comments identified by Docket No. FAA-2009-0671 through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Sean Denniston, Safety Management System Program Office (AFS-910) by email at: sean.denniston@faa.gov; phone: 703-230-7664, ext. 261

SUPPLEMENTARY INFORMATION: OMB Control Number: OMB-2120-0763.

Title: Safety Management Systems for Part 121 Certificate Holders.

Form Numbers: None.

Type of Review: Renewal of an information collection with changes.

Background: The information collection involves the collection and analysis of safety data as part of a Safety Management System (SMS), as required for part 121 certificate holders by 14 CFR part 5, Safety Management Systems. The information to be collected will continue to be used to identify hazards and show compliance with part 5.

The existing information collection included the submission of SMS Implementation Plans to the FAA by March 9, 2018. That portion of the information collection has been completed and only new applicants for a part 121 certificate will be required to submit SMS Implementation Plans in the future. As a result, the burden for the submission of implementation plans will be significantly reduced. The FAA anticipates a minimal amount of applications for new part 121 certificates in the future.

The original burden estimate for the maintenance of an SMS program encompassed 90 certificate holders in existence at the time of the rulemaking and the number of current part 121 certificate holders is now 72.

The ongoing information collection requirement for part 121 certificate holders supports the ongoing requirements of an SMS program under part 5 to determine and identify hazards in an aviation operation, measure the effectiveness of hazard identification and mitigation and the prevention of unforeseen hazards, and the maintenance of training records and communications documentation used to promote safety.

Respondents: All part 121 certificate holders.

Number of Respondents: Implementation plan collection: 3 future applicants for part 121 certificate (anticipated at no more than one per year).

Continuing SMS program collection: 72 current part 121 certificate holders.

Frequency:

Implementation plan collection: Yearly responses for the 3 future applicants.

Continuing SMS program collection: Monthly responses for the 72 current part 121 certificate holders.

Number of Responses:

Implementation plan collection:1 future applicant per year submitting yearly responses would total 6 responses over the three year period. (1 new applicant in the first year × 3 responses + 1 applicant in second year × 2 responses + 1 applicant in the third year × 1 response).

Continuing SMS program collection: 72 current part certificate holders x 12 responses = 864 responses per year.

Total Annual Burden:

Implementation plan collection: Total burden for new applicants estimated to be 20,040 hours or 6,680 hours per year.

Continuing SMS program collection: Total annual burden of 146,666 hours or 1,955 hours per year per carrier.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC on June 13, 2018.
John S. Duncan,
Executive Director, Flight Standards Service.

[FR Doc. 2018-13242 Filed 6-19-18; 8:45 am]

BILLING CODE 4910-13-P